DEPARTMENT OF AGRICULTURE

Agricultural Research Service

Notice of Intent To Renew Information Collection

AGENCY: National Arboretum, Agricultural Research Service, USDA.

ACTION: Notice and request for comment.

SUMMARY: The U.S. Department of Agriculture (USDA) seeks comments on the U.S. National Arboretum's (USNA) intent to renew an information collection that expires December 31, 2024. The information collection serves to collect fees for certain uses of the facilities, grounds, programs, and services. This includes fees for educational programs and workshops, and for use of the grounds and facilities for commercial photography and cinematography. Fees will be used to promote the mission and defray expenses of the USNA.

DATES: Comments on this notice must be received by August 31, 2024, to be assured of consideration.

ADDRESSES:

Email: USNA.Comments@usda.gov.

• Mail: Director, U.S. National Arboretum, Northeast Area, Agricultural Research Service, 3501 New York Avenue NE, Washington, DC 20002

• Hand Delivery/Courier: Director, U.S. National Arboretum, Northeast Area, Agricultural Research Service, 3501 New York Avenue NE, Washington, DC 20002

SUPPLEMENTARY INFORMATION:

Title: Use of the Grounds and Facilities as Well As Commercial Photography and

Cinematography.

OMB Number: 0518-0024.

Expiration Date: 3 years from date of approval.

Type of Request: Renewal of approved information collection.

Abstract: The mission of the U.S. National Arboretum (USNA) is to serve the public need for scientific research, education, and gardens that conserve and showcase plants to enhance the environment. The USNA is a 451-acre facility open to the public for purposes of education and passive recreation. The USNA is a national center for public education and research that welcomes visitors in a stimulating and aesthetically pleasing environment. The USNA receives more than 700,000 visitors on the grounds each year. Many garden clubs and societies utilize the USNA grounds to showcase their activities.

Section 890(b) of the Federal Agriculture Improvement and Reform Act of 1996, Public Law 104-127 (1996 Act), expanded the authorities of the Secretary of Agriculture to charge reasonable fees for the use of USNA facilities and grounds. These authorities include the ability to charge fees for temporary use by individuals or groups of USNA facilities and grounds in furtherance of the mission of the USNA. Also, authority was provided to charge fees for the use of the USNA for commercial photography and cinematography. All rules and regulations noted in 7 CFR part 500, subpart 2A, will apply to individuals or groups granted approval to use USNA facilities and grounds. In order to administer the use of the USNA facilities and to determine if the requested use are consistent with the mission of the USNA, it is necessary for the USNA to obtain information from the requestor. Each request will require the completion of an application and submission of an application fee. The application is simple and requires only information readily available to the requestor. The requestor is asked to indicate by whom and for what purpose the USNA facilities are to be used. Applications are available in electronic format (PDF fillable) on the USNA website https://www.usna.usda.gov/. Completed permit requests are received in person or electronically.

Paperwork Reduction Act: In accordance with the Office of Management and Budget (OMB) regulations (5 CFR part 1320) implementing the Paperwork Reduction Act of 1995 (44 U.S.C. chapter 35), the information collection and recordkeeping requirements that will be imposed will be submitted to OMB for approval. These requirements will not become effective prior to OMB approval.

Estimate of Burden: 850 hours.

Estimated Number of Responses: The USNA estimates 200 requests for the use of facilities, 150 for photography and cinematography, and 500 for educational programs and workshops on an annual basis.

Estimate of Total Annual Burden on Respondents: The total cost for responding is $6,445.13 for 212.5 hours of time at $30.33 per hour.

Obtaining Permit Requests: The PDF fillable application for the use of facilities is available on the USNA website and can be submitted electronically to USNA: https://www.usna.usda.gov/assets/images/as_pdf_image/USNA_Facilities_Use_Form.pdf.

The application for photography and cinematography is available on the USNA website and can be submitted electronically: https://usna.usda.gov/assets/images/as_pdf_image/Photography-Videography_Application_March_2023.pdf.

Completed hard copies of permit requests can be submitted to the Administrative Office, USDA, ARS, U.S. National Arboretum, 3501 New York Avenue NE, Washington, DC 20002.

Comments: Comments are invited on whether the proposed collection is necessary for the proper performance of the functions of the agency, including whether the information will have practical utility; the accuracy of the agency's estimate of the burden of the proposed information collection, including the validity of the methodology and assumptions used; ways to enhance the quality, utility, and clarity of the information to be collected; and ways to minimize the burden of collection on those who are to respond, including through the use of appropriate automated, electronic, mechanical, or other technology.

Nora Lapitan,
Acting Associate Administrator, ARS.

[FR Doc. 2024-13347 Filed 6-17-24; 8:45 am]

BILLING CODE 3410-03-P